DEPARTMENT OF ENERGY

Federal Energy Regulatory Commission

[Docket No. RP01-435-011]

Williston Basin Interstate Pipeline Company; Notice of Refund Report

August 30, 2001.

Take notice that on August 15, 2001, Williston Basin Interstate Pipeline Company (Williston Basin), tendered for filing with the Commission its Refund Report made pursuant to the Commission's Letter Order issued June 18, 2001 in Docket No. RP01-435-000.

Williston Basin states that on August 10, 2001, refunds were sent to applicable Rate Schedule IT-1 shippers associated with the final reconciliation of the gas supply realignment (GSR) amortization account as of June 30, 2001. These refunds included interest through August 10, 2001, in accordance with Section 154.501 of the Commission's Regulations.

Any person desiring to protest said filing should file a protest with the Federal Energy Regulatory Commission, 888 First Street, NE., Washington, DC 20426, in accordance with Section 385.211 of the Commission's Rules and Regulations. All such protests must be filed on or before September 6, 2001. Protests will be considered by the Commission in determining the appropriate action to be taken, but will not serve to make protestants parties to the proceedings. Copies of this filing are on file with the commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22469 Filed 9-6-01; 8:45 am]

BILLING CODE 6717-01-M